DEPARTMENT OF AGRICULTURE

Food and Nutrition Service

Agency Information Collection Activities: Proposed Collection; Comment Request—Successful Approaches To Reduce Sodium in School Meals

AGENCY: Food and Nutrition Service, United States Department of Agriculture (USDA).

ACTION: Notice and request for comments.

SUMMARY: In accordance with the Paperwork Reduction Act of 1995, this notice invites the general public and other public agencies to comment on this proposed information collection. This collection is a new collection to study Successful Approaches to Reduce Sodium in School Meals.

DATES: Written comments must be received on or before May 16, 2016.

ADDRESSES: Comments are invited on the following topics: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques, and/or other forms of information technology.

Comments may be sent to Alice Ann Gola, Social Science Research Analyst, Special Nutrition Evaluation Branch, Office of Policy Support, USDA Food and Nutrition Service, 3101 Park Center Drive, Room 1014, Alexandria, VA 22302. Comments may also be submitted via email to AliceAnn.Gola@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Alice Ann Gola at AliceAnn.Gola@fns.usda.gov.

SUPPLEMENTARY INFORMATION:

Title: Successful Approaches to Reduce Sodium in School Meals.

Form Number: N/A.

OMB Number: Not yet assigned.

Expiration Date: Not yet determined.

Type of Request: New collection.

Abstract: The National School Lunch Program (NSLP) and the School Breakfast Program (SBP) are federally assisted meal programs operating in almost 100,000 public schools, non-profit private schools, and residential child-care institutions. Any child enrolled in a participating school may purchase a meal through the SBP and NSLP. Children from families with incomes at or below 130 percent of the poverty level are eligible for free meals. Children from families with incomes between 130 percent and 185 percent of poverty are eligible for reduced-price meals. School districts that participate in NSLP receive cash subsidies and commodities (USDA foods) from the USDA for each meal they serve. In return, they must serve meals that meet Federal requirements.

Federal regulations (7 CFR part 210.10) set nutritional and other meal requirements for school lunches, including targets for sodium levels. The purpose of this study is to identify, among schools that are successfully meeting the sodium targets, “best practices” that could be used to provide technical assistance to School Food Authorities (SFAs) for developing lower sodium menus. This study relies on qualitative data from four sources: SFA directors, school administrators, community-based stakeholders, and local food suppliers to SFAs. The study activities subject to this notice include online prescreening surveys, brief telephone interviews, in-depth telephone interviews, and in-depth on-site interviews. The online prescreening survey will verify which SFAs are currently meeting sodium targets. The brief site visit selection telephone interview will provide additional information used to determine which of the eligible sites will experience in-depth interviews, either on-site or by telephone.

Affected Public: This study includes four respondent groups: (1) State, Local, and Tribal Government (SFA directors and school administrators), (2) Business or Other For-Profit (local food suppliers), (3) Individuals or Households (community-based stakeholders), and (4) Not-For-Profit Institutions (community-based stakeholders).

Estimated Number of Respondents: The total estimated number of respondents is 753. This figure includes 608 respondents and 145 non-respondents. The initial sample will consist of 625 SFA directors. Assuming that 80 percent respond to the pre-screening survey, the resulting respondent sample will include approximately 500 SFA directors. Of the SFA directors identified as eligible from the pre-screening survey results, 45 will be contacted with an expected response rate of 80 percent (36 SFA director respondents and 9 non-respondents). In-depth interviews will be conducted with the 36 SFA directors (with an expected 100 percent response rate). The following respondent types will be recruited within each of the SFAs, resulting in 36 responses per respondent type: 40 school administrators (with an expected response rate of 90 percent); 46 local food suppliers (with an expected response rate of 78 percent); and 42 community-based stakeholders (32 individuals with an expected response rate of 87.5 percent and 10 not-for-profit institutions with an expected response rate of 80 percent). The 145 non-respondents include 125 SFA directors, 4 school administrators, 10 local food suppliers, 4 individual community-based stakeholders, and 2 not-for-profit community-based stakeholders.

Estimated Frequency of Responses per Respondent: FNS estimates that the frequency of responses per respondent will average 1.11 responses per respondent across the entire collection. SFA directors may provide responses on three occasions (prescreening survey, brief site visit selection telephone interview, and in-depth interview), although most will provide responses on the prescreening survey only. School administrators, community-based stakeholders, and local food suppliers to SFAs will be expected to provide a one-time response during the in-depth interview.

Estimated Total Annual Responses: The total number of responses expected across all respondent categories is 834.

Estimated Time per Response: The estimated time will vary depending on the respondent category and will range from three minutes (0.05 hours) to one hour. The table that follows outlines the estimated total annual burden for each type of respondent. Across all study respondents and non-respondents, the average estimated time per response is 0.47 hours.

Estimated Total Annual Burden Hours on Respondents: 391.22 hours (see table below for estimated total annual burden hours by type of respondent).

Dated: March 7, 2016.
Audrey Rowe,
Administrator, Food and Nutrition Service.

[FR Doc. 2016-05895 Filed 3-15-16; 8:45 am]

BILLING CODE 3410-30-C